DEPARTMENT OF THE TREASURY

Submission for OMB Review; Comment Request

July 11, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 18, 2003 to be assured of consideration.

Alcohol and Tobacco Tax and Trade Bureau (TTB)

OMB Number: 1513-0004.

Form Number: TTB F 5030.6.

Type of Review: Extension.

Title: Authorization to Furnish Financial Information and Certificate of Compliance.

Description: The Right to Financial Privacy Act of 1978 limits access to records held by financial institutions and provides for certain procedures to gain access to the information. TTB F 5030.6 serves as both a customer authorization for TTB to receive information and as the required certification to the financial institution.

Respondents: Business of other for-profit.

Estimated Number of Respondents: 2,000.

Estimated Burden Hours Per Respondent: 15 minutes.

Frequency of Response: On occasion.

Estimated Total Reporting Burden: 500 hours.

OMB Number: 1513-0009.

Form Number: TTB F 5120.25 and TTB 5120.36.

Type of Review: Extension.

Title: Application to Establish and Operate Wine Premises (F 5120.25); and Wine Bond (5120.36).

Description: TTB F 5120.25 is the form used to establish the qualifications of an applicant applying to establish and operate wine premises. The applicant certifies the intention to produce and/or store a specified amount of wine and take certain precautions to protect it from unauthorized use. TTB F 5120.36, Wine Bond, is the form used by the proprietor and a surety company as a contract to ensure the payment of wine excise tax.

Respondents: Business or other for-profit.

Estimated Number of Respondents: 1,720

Estimated Burden Hours Per Respondent: 30 minutes.

Frequency of Response: On occasion.

Estimated Total Reporting Burden: 810 hours.

OMB Number: 1513-0010.

Form Number: TTB F 5120.9.

Type of Review: Extension.

Title: Bonded Wineries—Formula and Process for Wine, Letterhead, Application and Notices Relating to Formula Wine.

Description: TTB F 5120.9 is used to determine the classification of wine for labeling and consumer protection. The form describes the person filing, type of product to be made and restrictions to the labeling and manufacture. The form is also used to audit a product.

Respondents: Business or other for-profit.

Estimated Number of Respondents: 600.

Estimated Burden Hours Per Respondent: 2 hours.

Frequency of Response: On occasion.

Estimated Total Reporting Burden: 1,200 hours.

OMB Number: 1513-0014.

Form Number: TTB F 5000.8.

Type of Review: Extension.

Title: Power of Attorney.

Description: TTB F 5000.8 delegates the authority to a specific individual to sign documents on behalf of an applicant or principal. 26 U.S.C. 6061 authorizes that individuals signing returns, statements or other documents required to be filed by industry member under the provisions of the Internal Revenue Code (IRC) or the Federal Alcohol Administration (FAA) Act, are to have that authority on file with TTB.

Respondents: Business or other for-profit.

Estimated Number of Respondents: 5,000.

Estimated Burden Hours Per Respondent: 30 minutes.

Frequency of Response: On occasion.

Estimated Total Reporting Burden: 3,000 hours.

OMB Number: 1513-0016.

Form Number: TTB F 1582 (5120.24).

Type of Review: Extension.

Title: Drawback on Wines Exported.

Description: When proprietors export wines that have been produced, packaged, manufactured, or bottled in the U.S., they file a claim for drawback or refund for the taxes that have already been paid on the wine. This form notifies TTB that the wine was in fact exported and helps to protect the revenue and prevent fraudulent claims.

Respondents: Individuals or households, Business of other for-profit.

Estimated Number of Respondents: 900.

Estimated Burden Hours Per Respondent: 1 hour, 7 minutes.

Frequency of Response: On occasion.

Estimated Total Reporting Burden: 2,025 hours.

OMB Number: 1513-0028.

Form Numbers: TTB F 5150.22 and TTB F 5150.25.

Type of Review: Extension.

Title: Application for an Alcohol User Permit (5150.22); and, Industrial Alcohol Bond (5150.25).

Description: TTB F 5150.22 is used to determine the eligibility of the applicant to engage in certain operations and the extent of the operations for the production and distribution of specially denatured spirits (alcohol/rum). This form identifies the location of the premises and establishes whether the premises will be in conformity with the Federal laws and regulations. TTFB F 5150.25 provides notification that sufficient bond coverage has been obtained prior to the issuance of a permit.

Respondents: Business or other for-profit.

Estimated Number of Respondents: 738.

Estimated Burden Hours Per Respondent: 2 hours.

Frequency of Response: On occasion.

Estimated Total Reporting Burden: 1,476 hours.

OMB Number: 1513-0047.

Form Number: TTB F 5110.40.

Recordkeeping Requirement ID Number: TTB REC 5110/01.

Type of Review: Extension.

Title: Distilled Spirits Records and Monthly Report of Production Operations.

Description: The information collected is used to account for proprietor's tax liability, adequacy of bond coverage and protection of the revenue. The information also provides data to analyze trends in the industry, ad plan efficient allocation of field resources, audit plant operations, and compilation of statistics for government economic analysis.

Respondents: Business or other for-profit.

Estimated Number of Respondents: 150.

Estimated Burden Hours Per Respondent: 2 hours.

Frequency of Response: On occasion.

Estimated Total Reporting Burden: 3,600 hours.

OMB Number: 1513-0048.

Form Number: TTB F 5110.41.

Type of Review: Extension.

Title: Miscellaneous Requests and Notices for Distilled Spirits Plants.

Description: The information provided by the applicants assists in determining eligibility and providing for registration. These eligibility requirements are for persons who wish to establish distilled spirits plant operations. However, both statutes and regulations allow variances from regulations, and this information gives data to permit a variance.

Respondents: Business or other for-profit.

Estimated Number of Respondents: 328.

Estimated Burden Hours Per Respondent: 2 hours.

Frequency of Response: On occasion.

Estimated Total Reporting Burden: 1,620 hours.

OMB Number: 1513-0057.

Recordkeeping Requirement ID Number: TTB REC 5120/2.

Type of Review: Extension.

Title: Letterhead Applications and Notices Relating to Wine.

Description: Letterhead applications and notices relating to wine are required to ensure that the intended activity will not jeopardize the revenue or defraud consumers.

Respondents: Business or other for-profit.

Estimated Number of Respondents: 1,650.

Estimated Burden Hours Per Respondent: 30 minutes.

Frequency of Response: On occasion.

Estimated Total Reporting Burden: 825 hours.

OMB Number: 1513-0060.

Recordkeeping Requirement ID Number: TTB REC 5150/4.

Type of Review: Extension.

Title: Letterhead Applications and Notices Relating to Tax-Free Alcohol.

Description: Tax-free alcohol is used for non-beverage purposes in scientific research and medicinal uses by educational organizations, hospitals, laboratories, etc. Permits/Applications control authorized uses and flow. TTB REC 5150/4 is designed to protect revenue and public safety.

Respondents: Not-for-profit institutions, Federal Government, State, Local or Tribal Government.

Estimated Number of Respondents: 4,444.

Estimated Burden Hours Per Respondent: 30 minutes.

Frequency of Response: On occasion.

Estimated Total Reporting Burden: 2,222 hours.

OMB Number: 1513-0063.

Recordkeeping Requirement ID Number: TTB REC 5150/8.

Type of Review: Extension.

Title: Stills: Notices, Registration, and Records.

Description: The information is used to account for and regulate the distillation of distilled spirits to protect the revenue and to provide for identification of distillers.

Respondents: Business or other for-profit.

Estimated Number of Respondents: 10.

Estimated Burden Hours Per Respondent: 2 hours.

Frequency of Response: On occasion.

Estimated Total Reporting Burden: 21 hours.

OMB Number: 1513-0066.

Recordkeeping Requirement ID Number: TTB REC 5170/3.

Type of Review: Extension.

Title: Stills: Retail Liquor Dealers Records of Receipts of Alcoholic Beverages and Commercial Invoices.

Description: Audit trail records show amounts purchased and from whom; complete financial audit trail established at distilled spirits plant. Tax revenue will be protected. The collection of information is contained in 27 CFR 194.234.

Respondents: Business or other for-profit, State, Local or Tribal Government.

Estimated Number of Recordkeepers: 455,000.

Estimated Burden Hours Per Recordkeeper: 1 hour.

Estimated Total Recordkeeping Burden: 1 hour.

OMB Number: 1513-0067.

Recordkeeping Requirement ID Number: TTB REC 5170/6.

Type of Review: Extension.

Title: Wholesale Dealers Applications, Letterheads, and Notice Relating to Operations (Variations in Format or Preparation of Records.

Description: To ascertain that revenue is not placed in jeopardy. Tax revenue will be protected. (Affects wholesale liquor dealers.)

Respondents: Business or other for-profit.

Estimated Number of Recordkeepers: 1,029.

Estimated Burden Hours Per Recordkeeper: 30 minutes.

Frequency of Response: On occasion.

Estimated Total Recordkeeping Burden: 515 hours.

OMB Number: 1513-0074.

Recordkeeping Requirement ID Number: TTB REC 5620/2.

Type of Review: Extension.

Title: Airlines Withdrawing Stock from Customs Custody.

Description: Airlines may withdraw tax exempt distilled spirits, wine, and beer from Customs custody for foreign flights. Required record shows amount of spirits and wine withdrawn and flight identification; also has Customs certification; enables TTB to verify that tax is not due; allows spirits and wines to be traced and maintains accountability. Tax revenue will be protected. The collection of information is contained in 27 CFR 253.280 and 252.281.

Respondents: Business or other for-profit.

Estimated Number of Recordkeepers: 25.

Estimated Burden Hours Per Recordkeeper: 100 hours.

Frequency of Response: On occasion.

Estimated Total Recordkeeping Burden: 2,500 hours.

OMB Number: 1513-0088.

Recordkeeping Requirement ID Number: TB REC 5000/24.

Type of Review: Extension.

Title: Alcohol, Tobacco Tax ad Trade Tax Returns, Claims and Related Documents.

Description: TTB is responsible for the collection of the excise taxes on firearms, ammunition, distilled spirits, wine, beer, cigars, cigarettes, chewing tobacco, snuff, cigarette papers, tubes and pipe tobacco. Alcohol, tobacco and ammunition excise taxes, plus alcohol, tobacco and firearms special occupational taxes are required to be collected on the basis of a return.

Respondents: Business or other for-profit, Individuals or households, Not-for-profit institutions.

Estimated Number of Recordkeepers: 503,921.

Estimated Burden Hours Per Recordkeeper: 1 hour.

Frequency of Response: On occasion.

Estimated Total Recordkeeping Burden: 503.921 hours.

OMB Number: 1513-0089.

Recordkeeping Requirement ID Number: TTB REC 5530/3.

Type of Review: Extension.

Title: Liquors and Articles from Puerto Rico or the Virgin Islands.

Description: Information collection requirements for persons bringing non-beverage products into the United States from Puerto Rico and the Virgin Islands and is necessary for the verification of claims for drawback of distilled spirits excise taxes paid on such products.

Respondents: Business or other for-profit.

Estimated Number of Respondents: 20.

Estimated Burden Hours Per Respondent: 6 hours.

Frequency of Response: Quarterly.

Estimated Total Reporting Burden: 120 hours.

OMB Number: 1513-0097.

Form Number: None.

Type of Review: Extension.

Title: Notices Relating to Payment of Firearms and Ammunition Excise Tax.

Description: Excise taxes are collected on the sale or use of firearms and ammunition by firearms or ammunition manufacturers, importers or producers. Taxpayers who elect to pay excise taxes by electronic fund transfer must furnish a written notice upon election and discontinuance. Tax revenue will be protected.

Respondents: Business or other for-profit.

Estimated Number of Respondents: 10.

Estimated Burden Hours Per Respondent: 1 hour.

Frequency of Response: On occasion.

Estimated Total Reporting Burden: 1 hour.

OMB Number: 1512-0100.

Form Number: None.

Type of Review: Extension.

Title: Applications, Notices, and Relative to Importation and Exportation of Distilled Spirits, Wine and Beer, including Puerto Rico and Virgin Islands

Description: Beverage alcohol, industrial alcohol, beer wine are taxed when imported. The taxes on these commodities coming from the Virgin Islands and Puerto Rico are largely returned to these insular possessions. Exports are mainly tax-free. These sections ensure that proper taxes are collected and returns according to law.

Respondents: Business or other for-profit.

Estimated Number of Recordkeepers: 20.

Estimated Burden Hours Per Recordkeeper: 9 hours.

Frequency of Response: On occasion.

Estimated Total Recordkeeping Burden: 180 hours.

OMB Number: 1513-0104.

Recordkeeping Requirement ID Number: TTB REC 5120/11.

Type of Review: Extension.

Title: Information Collected in Support of Small Producer's Wine Tax Credit.

Description: TTB collects this information to ensure proper tax credit. The information is used by taxpayers in preparing their returns and by TTB to verify tax computation. Recordkeepers are wine producers who want to transfer their credit to warehouse operators and the transferees who take such credit.

Respondents: Business or other for-profit.

Estimated Number of Recordkeepers: 280.

Estimated Burden Hours Per Recordkeeper: 1 hour.

Estimated Total Recordkeeping Burden: hours.

OMB Number: 1513-0105.

Form Number: TTB F 5000.28T.

Type of Review: Extension.

Title: 2000 Floor Stocks Tax Return (Cigarettes) and Recordkeeping Requirements.

Description: All persons who hold for sale any cigarettes on January 1, 2000, must take an inventory. A floor stocks tax has been imposed on cigarettes. The recordkeeping and the tax return for this tax are prescribed by TTB.

Respondents: Business or other for-profit.

Estimated Number of Recordkeepers: 100.

Estimated Burden Hours Per Recordkeeper: 1 hour.

Frequency of Response: Other (one-time).

Estimated Total Recordkeeping Burden: 1 hour.

Clearance Officer: Jacqueline White (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Lois K. Holland,
Treasury PRA Clearance Officer.

[FR Doc. 03-18247 Filed 7-17-03; 8:45 am]

BILLING CODE 4810-31-P